DEPARTMENT OF AGRICULTURE

Commodity Credit Corporation

Request for Approval of an Information Collection

AGENCY: Commodity Credit Corporation, USDA.

ACTION: Notice and request for comments.

SUMMARY: In accordance with the Paperwork Reduction Act of 1995, this notice announces the Commodity Credit Corporation's (CCC) intention to request a new information collection. This information collection will be used in support of the Pasture Recovery Program (PRP) which reimburses producers for drought-related losses on pasture during calendar year 1999 as authorized by the Agriculture, Rural Development, Food and Drug Administration, and Related Agencies Appropriations Act, 2000. Producers must agree to reestablish vegetation on pasture acreage destroyed by the drought in order to receive the disaster payment.

DATES: Comments on this notice must be received on or before February 20, 2001 to be assured consideration.

ADDITIONAL INFORMATION OR COMMENTS: Contact Clayton Furukawa, Agricultural Program Specialist, USDA, FSA, CEPD, STOP 0513, 1400 Independence Avenue, SW., Washington, DC 20250-0513; telephone (202) 690-0571; e-mail Clayton_Furukawa@wdc.usda.gov; or facsimile (202) 720-4619.

SUPPLEMENTARY INFORMATION: Title: Pasture Recovery Program Contract.

OMB Control Number: 0560-NEW.

Type of Request: Approval of a new information collection.

Abstract: The PRP was authorized by the Agriculture, Rural Development, Food and Drug Administration, and Related Agencies Appropriations Act, 2000, to reimburse farmers and ranchers for drought related losses to pasture during calendar year 1999. The information is necessary to ensure the integrity of the program and to ensure that only eligible producers are authorized contracts.

Producers requesting PRP payments from the CCC must provide specific data related to the disaster payment request. The form included in this information collection package requires farm and tract numbers, name and address, number of acres where vegetation will be reestablished, and similar information, in order to determine eligibility. Producers must also agree to the terms and conditions contained in the form. Without the collection of this information, CCC cannot ensure the integrity of the program.

Estimate of Respondent Burden: Public reporting burden for this collection of information is estimated to average .25 hours per response.

Respondents: Individuals producers, partnerships, corporations, tribal members, or other eligible agricultural producers.

Estimated Number of Respondents: 15,000.

Estimated Number of Annual Responses per Respondent: 1.

Estimated Total Annual Burden on Respondents: 1.25 hours (This estimate includes 60 minutes travel time for applicants to the local USDA service center office.)

Proposed topics for comment include: (a) Whether the collection of information is necessary for the proper performance of the functions of the agency, including whether the information will have practical utility; (b) the accuracy of the agency's estimate of burden, including the validity of the methodology and assumptions used; (c) ways to enhance the quality, utility, and clarity of the information collected; and (d) ways to minimize the burden of the collection of the information on those who are to respond, including through the use of appropriate automated, electronic, mechanical, or other technological collection techniques or other forms of information technology. Comments must be sent to the Desk Officer for Agriculture, Office of Information and Regulatory Affairs, Office of Management and Budget, Washington, DC 20503, and to Clayton Furukawa, Agricultural Program Specialist, USDA-FSA-CEPD, STOP 0513, 1400 Independence Avenue, SW., Washington, DC 20250-0513; telephone (202) 690-0571; e-mail Clayton_Furukawa@wdc.fsa.usda.gov; or facsimile (202) 720-4619. Copies of the information collection may be obtained from Mr. Furukawa at the above address.

OMB is required to make a decision concerning the collection of information contained in these proposed regulations between 30 and 60 days after publication of this document in the Federal Register. Therefore, a comment to OMB is best assured of having its full effect if OMB receives in within 30 days of publication.

All responses to this notice will be summarized and included in the request for OMB approval. All comments will also become a matter of public record.

Signed at Washington, DC, on December 13, 2000.
Keith Kelly,
Executive Vice President, Commodity Credit Corporation.

[FR Doc. 00-32713 Filed 12-21-00; 8:45 am]

BILLING CODE 3410-05-P